DEPARTMENT OF THE INTERIOR

National Park Service

Final Environmental Impact Statement on Vessel Quotas and Operating Requirements for Glacier Bay National Park and Preserve, Alaska

AGENCIES: National Park Service, Interior.

ACTION: Notice of availability of the Final Environmental Impact Statement on Vessel Quotas and Operating Requirements.

SUMMARY: The National Park Service (NPS) announces the availability of Final Environmental Impact Statement (EIS) on Vessel Quotas and Operating Requirements for Glacier Bay National Park and Preserve. The document describes and analyzes the environmental impacts of five action alternatives, including a preferred alternative, for managing four types of motorized vessels within Glacier Bay and Dundas Bay. A no action alternative also is evaluated.

DATES: A Record of Decision will be made no sooner than 30 days after the date the Environmental Protection Agency's Notice of Availability for this final EIS appears in the Federal Register.

ADDRESSES: Copies of the statement are available on request from: Nancy Swanton, EIS Project Manager, National Park Service, Alaska Support Office, 240 West 5th Avenue, Anchorage, Alaska 99501. Telephone: (907) 644-3696.

FOR FURTHER INFORMATION CONTACT: Nancy Swanton, EIS Project Manager, National Park Service, Alaska Support Office, 240 West 5th Avenue, Anchorage, Alaska 99501. Telephone: (907) 644-3696.

SUPPLEMENTARY INFORMATION: Pursuant to section 102(2)(C) of the National Environmental Policy Act of 1969 (Pub. L. 91-190, as amended), the NPS has prepared a final environmental impact statement (FEIS) that considers six alternatives to establish quotas and operating requirements for four types of motorized vessels—cruise ships and tour, charter, and private vessels—within Glacier Bay proper and/or Dundas Bay in Glacier Bay National Park and Preserve.

Glacier Bay National Park and Preserve is located in Southeast Alaska, approximately 65 miles (105 kilometers) west of Juneau. Accessible by boat and airplane, it is a popular destination due to its spectacular scenery, tidewater glaciers, wilderness, and wildlife. Vessel quotas and operating requirements have been in effect since 1979. The need for the actions considered in this FEIS stems from legislation enacted in 2001, wherein the U.S. Congress directed the Park Service to identify and analyze the possible effects of the 1996 increases in the number of vessel entries issued for Glacier Bay National Park and Preserve and set the maximum level of vessel entries, consistent with the purposes and values of the park. In this EIS, the Park Service is addressing the continuing demand for motorized vessel access into the park in a manner that assures continuing protection of park resources and values, while providing for a range of high-quality opportunities for visitors to the park.

The six alternatives evaluated in this EIS include five action alternatives and a no action alternative. Daily quotas, seasonal entries, seasonal-use days, quota season, and/or operating requirements differ among the alternatives. Alternatives 1, 2, and 3 would set vessel quotas and operating requirements for Glacier Bay proper. Alternatives 4, 5, and 6 would set quotas and operating requirements for Dundas Bay as well.

• Alternative 1, the no action alternative, would maintain the current vessel quotas, quota season (June 1 through August 31), and operating requirements (see 36 Code of Federal Regulations 13.65).

Note: the June 1—August 31 quota season applies to charter and private vessels for daily and seasonal quotas and to cruise ships and tour vessels for seasonal quotas. The daily quotas for cruise ships and tour vessels apply year-round.

• Alternative 2 would set vessel quotas in accordance with those in place in 1995 and maintain the current quota season and operating requirements.

• Alternative 3 would maintain the current vessel quotas and quota season, with one exception: it would include a provision to increase the seasonal quota for cruise ships to a maximum of two per day every day, based on the results of studies and monitoring. It would maintain the current operating requirements.

• Alternative 4, the environmentally preferred alternative, would maintain the current daily quota for cruise ships and decrease the daily vessel quotas for tour, charter, and private vessels in Glacier Bay. Seasonal entry quotas would not apply. This alternative would decrease the number of seasonal use days for cruise ships and tour and charter vessels and increase the number of seasonal use days for private vessels in Glacier Bay. The quota season would be May 1 through September 30 (note: the year-round daily vessel quota for cruise ships and tour vessels would be maintained). Vessel quotas would be initiated for charter vessels for Dundas Bay during a May 1 through September 30 quota season. Neither cruise ships nor tour vessels would be permitted in Dundas Bay. No quotas would be imposed for private vessels. Operating requirements would be modified.

• Alternative 5 would maintain the current daily quotas and quota season for all four vessel types in Glacier Bay. Seasonal entry quotas would not apply. It would maintain the number of seasonal-use days for cruise ships, tour vessels, and charter vessels in Glacier Bay during the current June 1 through August 31 quota season, but decrease the number of seasonal-use days for cruise ships during May and September. It would increase the number of seasonal-use days for private vessels during the June through August quota season. Quotas would be initiated for tour and charter vessels in Dundas Bay, and the quota season would June 1 through August 31. Cruise ships would not be permitted in Dundas Bay and tour vessels would not be permitted in the upper bay (wilderness waters) on a year-round basis. No quotas would be imposed for private vessels in Dundas Bay. Operating requirements would be modified.

• Alternative 6, the NPS preferred alternative, would maintain the current daily vessel quotas for Glacier Bay. Seasonal entry quotas would not apply. This alternative would maintain the current seasonal use day quota for cruise ships during the current quota season (June-August), but provide for possible increases to a maximum of two ships per day each day, based on the results of studies and monitoring. It would establish a seasonal use day quota for cruise ships for May and September, with a provision to increase the number of seasonal use days to up to two per day each day, based on the results of studies and monitoring. It would maintain the current number of seasonal use days for tour and charter vessels and increase the number of seasonal use days for private vessels during the current quota season. Quotas would be initiated for tour and charter vessels in Dundas Bay, and the quota season would be June 1 through August 31. Cruise ships would not be permitted in Dundas Bay and tour vessels would not be permitted in the upper bay (wilderness waters) on a year-round basis. No quotas would be imposed for private vessels in Dundas Bay. Operating requirements would be modified.

The responsible official for a Record of Decision on the proposed action is the NPS regional director in Alaska.

Dated: September 23, 2003.
Victor Knox,
Acting Regional Director, Alaska.

[FR Doc. 03-25208 Filed 10-3-03; 8:45 am]

BILLING CODE 4312-HX-P